DEPARTMENT OF TRANSPORTATION

Maritime Administration

[Docket Number MARAD-2013-0022]

Information Collection Approved by the Office of Management and Budget: Cruise Vessel Security and Safety Training Provider Certification

AGENCY: Maritime Administration, Department of Transportation.

ACTION: Notice.

SUMMARY: The Maritime Administration (MARAD) has received Office of Management and Budget (OMB) approval, pursuant to the Paperwork Reduction Act of 1995 (44 U.S.C. 3501-3520), for the public information collection associated with MARAD's Cruise Vessel Security and Safety Act (CVSSA) Certification Program. A Federal agency may not conduct or sponsor a collection of information unless it displays a currently valid OMB control number, and no person is required to respond to a Federal agency request for information unless the agency holds a valid control number. MARAD welcomes any comments concerning the accuracy of the burden estimates and any suggestions for reducing the collection burden.

The MARAD CVSSA Certification Program application procedure and program details are now available on MARAD's Web site www.marad.dot.gov/cvssa. MARAD recommends that applicants submit their applications in electronic format (e.g., CD, DVD, or memory stick) via mail or courier service to the address listed in the FOR FURTHER INFORMATION CONTACT section below. Program applicants may submit any questions or comments to MARAD via email at CVSSA-MARAD@dot.gov, by mail to the address listed below, or by telephone to the CVSSA Program Manager at (202) 366-5906.

FOR FURTHER INFORMATION CONTACT: U.S. Department of Transportation, Maritime Administration, Attention: Mail Stop 1: MAR-420 CVSSA Program Manager, 1200 New Jersey Avenue SE., Washington, DC 20590-0001.

SUPPLEMENTARY INFORMATION:

OMB Control Number: 2133-0547.

OMB Approval Date: 12/24/2014.

OMB Expiration Date: 12/31/2017.

Title: Cruise Vessel Security and Safety Act Training Provider Certification Program.

Respondents: Individuals, partnerships, or corporations seeking training provider certification.

Estimated Number of Respondents and Responses: 35 respondents; 35 responses.

Estimated Time per Response: 40 hours.

Frequency of Response: On-occasion reporting requirement.

Total Annual Burden: 1,400 hours.

Total Annual Cost Burden: $77,315.00.

Annual Responses: The agency anticipates as many as 35 submissions each year. Certification is valid for 5 years before expiration and renewal. The agency also anticipates the collection of information annually from training providers seeking to maintain their certification by complying with agency audits.

Obligation to Respond: Participation in the certification program is voluntary. Responses, however, are required to apply for training provider certification in accordance with the CVSSA.

Need for and Use of the Information: The information collected will be used to determine whether the applicant's training program is consistent with the training standards promulgated in the Model Course. Information obtained during training provider audits will be used to determine whether the training being provided meets the model training standards. The training provider agreement is necessary to establish an understanding between the agency and the training provider that certain terms must be met in order to obtain and maintain MARAD training provider certification. Without this information, MARAD would not be able to offer the benefit of its training provider certification to program applicants. MARAD training provider certification will assist the USCG in ensuring cruise vessel compliance with CVSSA.

Background

Following enactment of the CVSSA, MARAD, the U.S. Coast Guard (USCG), and the Federal Bureau of Investigation (FBI), as directed under the Act, developed “Model Course CVSSA 11-01 Crime Prevention, Detection, Evidence Preservation and Reporting”. Published in July of 2011, the Model Course set the standards for security personnel training. The CVSSA training requirements are applicable to passenger vessels that carry at least 250 passengers; have onboard sleeping facilities for each passenger; are on a voyage that embarks and disembarks passengers in the United States; and are not engaged on a coastwise voyage. Since July 27, 2011, passenger vessels have been required to certify to the USCG, before entering a United States port on a voyage or voyage segment on which a United States citizen is a passenger, that they have at least one crewmember on board who is properly trained on the prevention, detection, evidence preservation, and reporting requirements of criminal activities in the international maritime environment.

MARAD published its CVSSA Certification Program Final Policy on June 25, 2014 in the Federal Register (79 FR 36125). MARAD's voluntary training provider certification program will help assure the general public that passenger vessel security and safety personnel have received proper training consistent with the Model Course and will assist the industry in obtaining quality training services. Training providers seeking to be certified by MARAD are required to submit training plans and supporting information for review. If the training provider's plans meet the Model Course criteria, the agency will offer its certification subject to the training provider entering into an agreement which, in addition to other terms, will subject the organization to program audits.

(Authority: The Cruise Vessel Security and Safety Act of 2010, 46 U.S.C. 3508, and The Paperwork Reduction Act of 1995; 44 U.S.C. Chapter 35, as amended; 49 CFR 1.49)

Dated: February 11, 2015.
By Order of the Maritime Administrator.
Thomas M. Hudson, Jr.,
Assistant Secretary, Maritime Administration.

[FR Doc. 2015-03186 Filed 2-13-15; 8:45 am]

BILLING CODE 4910-81-P